DEPARTMENT OF STATE

[Public Notice: 10716]

In the Matter of the Amendment of the Designation of ISIS (and Other Aliases) as a Specially Designated Global Terrorist

Based upon a review of the Administrative Record assembled in this matter, and in consultation with the Attorney General and the Secretary of the Treasury, I have concluded that there is a sufficient factual basis to find that ISIS (and other aliases) is also known as Amaq News Agency and Al Hayat Media Center, also known as Al-Hayat Media Center, also known as Al Hayat.

Therefore, pursuant to Section l(b) of Executive Order 13224, I hereby amend the designation of ISIS as a Specially Designated Global Terrorist to include the following new aliases: Amaq News Agency and Al Hayat Media Center, also known as Al-Hayat Media Center, also known as Al Hayat.

This determination shall be published in the Federal Register.

Dated: December 21, 2018.
Michael R. Pompeo,
Secretary of State.

[FR Doc. 2019-05564 Filed 3-21-19; 8:45 am]

BILLING CODE 4710-AD-P